DEPARTMENT OF LABOR

Employment and Training Administration

[TA-W-36,243 et al.]

Levi Strauss and Company, et. al.; Amended Certification Regarding Eligibility To Apply for Worker Adjustment Assistance

In accordance with section 223 of the Trade Act of 1974 (19 U.S.C. 2273) the Department of Labor issued a Certification of Eligibility To Apply for Worker Adjustment Assistance on June 24, 1999, applicable to workers of Levi Strauss and Company, Morrilton Sewing Facility located in Morrilton, Arkansas. The notice was published in the Federal Register on July 20, 1999 (64 FR 38921).

At the request of the company, the Department reviewed the certification for workers of the subject firm. The workers were engaged in the production of men's slacks and men's and women's jeans. New information received by the company shows that worker separations have occurred at the following facilities of Levi Strauss & Company: Little Rock Rescreen and Little Rock Customer Service, Little Rock, Arkansas, KB's Environmental Service, Menifee, Arkansas and Zimmerman Food Service, Morrilton, Arkansas. The Little Rock Rescreen and Little Rock Customer Service provided inspection, various customer services and distribution for Levi Strauss & Company. KB's Environmental Service and Zimmerman Food Service provided janitorial and cafeteria services for the subject firm's Morrilton Sewing Facility located in Morrilton, Arkansas which closed in early 1999.

The intent of the Department's certification is to include all workers of the subject firm, including full time contractors working at the above mentioned facilities, adversely affected by increased imports of men's slacks and men's and women's jeans.

Accordingly, the Department is amending the certification to properly reflect this matter.

The amended notice applicable to TA-W-36,243 is hereby issued as follows:

All workers of the following facilities of Levi Strauss & Company: Morrilton Sewing Facility, Morrilton, Arkansas (TA-W-36,243), Little Rock Rescreen, Little Rock, Arkansas (TA-W-36,243D), Little Rock Customer Service Center, Little Rock, Arkansas (TA-W-36,234E), KB's Environmental Service, Meniffee, Arkansas (TA-W-36,243F) and Zimmerman Food Service, Morrilton, Arkansas (TA-W-36,243G) who became totally or partially separated from employment on or after May 10, 1998 through June 24, 2001 are eligible to apply for adjustment assistance under Section 223 of the Trade Act of 1974.

Signed at Washington, DC, this 1st day of February, 2000.
Grant D. Beale,
Program Manager, Division of Trade Adjustment Assistance.

[FR Doc. 00-3504 Filed 2-14-00; 8:45 am]

BILLING CODE 4510-30-M